DEPARTMENT OF HEALTH AND HUMAN SERVICES

Administration for Children and Families

[OMB No. 0970-0223]

Submission for OMB Review; State Self-Assessment Review and Report

AGENCY: Office of Child Support Enforcement, Administration for Children and Families, HHS.

ACTION: Request for public comment.

SUMMARY: The Office of Child Support Enforcement (OCSE), Administration for Children and Families (ACF) requests a three-year extension of the State Self-Assessment Review and Report with minor revisions. The information collected in the reports assists state child support enforcement agencies and OCSE in determining whether the agencies meet federal child support performance requirements. The current Office of Management and Budget (OMB) approval expires April 30, 2022.

DATES: Comments due within 30 days of publication. OMB must make a decision about the collection of information between 30 and 60 days after publication of this document in the Federal Register. Therefore, a comment is best assured of having its full effect if OMB receives it within 30 days of publication.

ADDRESSES: Comments should be sent to www.reginfo.gov/public/do/PRAMain. Find this particular information collection by selecting “Currently under 30-day Review—Open for Public Comments” or by using the search function.

SUPPLEMENTARY INFORMATION: Description: State child support agencies are statutorily required to annually assess the performance of their child support enforcement programs and to provide a report of the findings to the Secretary of HHS. The information collected in the State Self-Assessment Review and Report is a management tool used to determine if states are in compliance with federal child support mandates, to help states evaluate their programs, and to assess their performances.

Respondents: States and territories.

Annual Burden Estimates
Instrument | Total number of annual respondents | Total number of annual responses per respondent | Average annual burden hours per response | Annual burden hours
State Self-Assessment Review and Report (SAR) (SAR Reporting Format and Instructions) | 54 | 1 | 8 | 432

Authority: 42 U.S.C. 654(15)(A); 45 CFR 308.1(e).

Mary B. Jones,
ACF/OPRE Certifying Officer.

[FR Doc. 2022-04315 Filed 3-1-22; 8:45 am]

BILLING CODE 4184-41-P